DEPARTMENT OF LABOR

Occupational Safety and Health Administration

29 CFR Part 1910

RIN 1218-AC46

Infectious Diseases

AGENCY: Occupational Safety and Health Administration (OSHA), Labor.

ACTION: Notice of stakeholder meetings.

SUMMARY: OSHA invites interested parties to participate in informal stakeholder meetings concerning occupational exposure to infectious diseases. OSHA plans to use the information gathered at these meetings to explore the possible development of a proposed rule to protect workers from occupational exposure to infectious agents in settings, either where workers provide direct patient care or where workers perform tasks other than direct patient care that also have occupational exposure. These other work tasks include: Providing patient support services (e.g., housekeeping, facility maintenance); handling, transporting, receiving or processing infectious items or wastes (e.g., transporting medical specimens, disposing of medical waste); conducting autopsies or performing mortuary services; and performing tasks in laboratories.

DATES: Dates and locations for the stakeholder meetings are:

July 29, 2011, 9 a.m.-noon in Washington, DC.

July 29, 2011, 1:30 p.m.-4:30 p.m. in Washington, DC.

The deadline for confirmed registration at the meeting is: July 22, 2011. However, if space remains after this deadline, OSHA may accept additional participants until the meetings are full. Those who submit their registration after July 22, 2011 may not receive confirmation of their attendance from OSHA.

ADDRESSES:

Registration: Submit your notice of intent to participate in a stakeholder meeting through one of the methods below. Specify which meeting (morning or afternoon) you would like to attend.

Electronic: Register at: https://www2.ergweb.com/projects/conferences/osha/register-osha-stakeholder.htm (follow the instructions online).

Facsimile: Fax your request to: (781) 674-7200, and label it “Attention: OSHA Infectious Diseases Stakeholder Meeting Registration.”

Regular mail, express delivery, hand (courier) delivery, and messenger service: Send your request to: OSHA Infectious Diseases Stakeholder Meeting Registration, Attention: Thomas Nerad, OSHA, Room N-3718, 200 Constitution Avenue, NW., Washington, DC 20210.

Meetings: The July 29, 2011 meetings will be held in the Francis Perkins Building, Room N-4437 at 200 Constitution Avenue, NW., Washington, DC 20210.

FOR FURTHER INFORMATION CONTACT: Information regarding this notice is available from the following sources:

Press inquiries: Contact Frank Meilinger, Acting Director, OSHA Office of Communications, Room N-3647, U.S. Department of Labor, 200 Constitution Avenue, NW., Washington, DC 20210; telephone: (202) 693-1999.

General and technical information: Contact Andrew Levinson, Director, Office of Biological Hazards, OSHA Directorate of Standards and Guidance, Room N-3718, U.S. Department of Labor, 200 Constitution Avenue, NW., Washington, DC 20210; telephone: (202) 693-2048.

Copies of this Federal Register notice: Electronic copies are available at http://www.regulations.gov. This Federal Register notice, as well as news releases and other relevant information, also are available on the OSHA Web page at http://www.osha.gov.

SUPPLEMENTARY INFORMATION:

I. Background

On May 6, 2010, OSHA published a Request for Information, entitled “Infectious Diseases” (Docket Number: OSHA-2010-0003). The Agency was interested in more accurately characterizing the nature and extent of occupationally-acquired infectious diseases and the strategies that are currently being used to mitigate the risk of occupational exposure to infectious agents. More than 200 comments were received in response to the RFI. Based upon these responses and an ongoing review of current literature on this subject, OSHA is considering what action, if any, the Agency should take to limit the spread of occupationally-acquired infectious diseases.

One action the Agency is considering is the development of a program standard to control workers' exposure to infectious agents in settings, either where workers provide direct patient care or where workers perform tasks other than direct patient care which also have occupational exposure. These other tasks might include such tasks as: Providing patient support services (e.g., housekeeping, food delivery, facility maintenance); handling, transporting, receiving or processing infectious items or wastes (e.g., laundering healthcare linens, transporting medical specimens, disposing of medical waste, reprocessing medical equipment); maintaining, servicing or repairing medical equipment that is contaminated with infectious agents; conducting autopsies (e.g., in medical examiners' offices); performing mortuary services; and performing tasks in laboratories (e.g., clinical, biomedical research, production laboratories) that result in occupational exposure.

A typical OSHA program standard affords employers substantial flexibility in determining the best way to tailor protective measures to their workplaces. Program standards generally involve: A hazard assessment; a written exposure control plan; methods of compliance (e.g., engineering controls, work practice controls, administrative controls, and personal protective equipment); medical surveillance; worker training; signage and labeling; and recordkeeping. A program standard to control occupational exposure to infectious diseases would likely incorporate all these elements.

The Agency has determined that informal discussion with stakeholders would be beneficial to its further deliberations on how to proceed with respect to occupational exposure to infectious diseases. To this end, OSHA will conduct stakeholder meetings, as announced in this notice.

II. Stakeholder Meetings

The stakeholder meetings announced in this notice will be conducted as group discussions on views, concerns, and issues surrounding the hazards of occupational exposure to infectious agents and how best to control them. To facilitate as much group interaction as possible, formal presentations by stakeholders will not be permitted. The stakeholder meeting discussions will center on such major issues as:

• Whether and to what extent an OSHA standard on occupational exposure to infectious diseases should apply in settings where workers provide direct patient care, as well as, settings where workers have occupational exposure even though they don't provide direct patient care. Whether and to what extent there are any other settings where an OSHA standard should apply.

• The advantages and disadvantages of using a program standard to limit occupational exposure to infectious diseases, and the advantages and disadvantages of taking other approaches to organizing a prospective standard.

• Whether and to what extent an OSHA standard should require each employer to develop a written worker infection control plan (WICP) that documents how the employer will implement the infection control measures it will use to protect the workers in its facility. Some of the elements that might be appropriate to include in such a worker infection control plan are: Designation of the plan administrator responsible for WICP implementation and oversight; designation of the individual(s) responsible for conducting infectious agent hazard analyses in the work setting; and written standard operating procedures (SOPs) to minimize or prevent exposure to infectious agents (e.g., SOPs for early identification of potentially infectious individuals and for implementation of standard and transmission-based precautions).

• Whether and to what extent SOP development should be based upon consideration of applicable regulations/guidance issued by the Centers for Disease Control and Prevention, the National Institutes of Health, and other authoritative agencies/organizations.

• Whether and to what extent an OSHA standard should require each employer to implement its WICP through a section addressing methods of compliance. OSHA envisions that this section would require, among other control measures, that an employer conduct an infectious agent hazard analysis, follow appropriate SOPs, institute appropriate engineering, work practice, and administrative controls, provide and ensure the use of appropriate personal protective equipment, clean and decontaminate the worksite, and conduct prompt exposure investigations.

• Whether and to what extent an OSHA standard should require each employer to make available routine medical screening and surveillance, vaccinations to prevent infection, and post-exposure evaluation and follow-up to all workers who have been exposed to a suspected or confirmed source of an infectious agent(s) without the benefit of appropriate infection control measures.

• Whether and to what extent an OSHA standard should contain signage, labeling, and worker training requirements to ensure the effectiveness of infection control measures.

• Whether and to what extent an OSHA standard should require the employer to establish and maintain medical records, exposure incident records, and records of reviews of its worker infection control program, and whether and to what extent an OSHA standard should contain other recordkeeping requirements.

• The economic impacts of a prospective standard.

• Whether and to what extent OSHA should take alternative approaches to rulemaking to improve adherence to current infection control guidelines issued by the Centers for Disease Control and Prevention, the National Institutes of Health, and other authoritative agencies/organizations.

• Additional topics as time permits.

III. Public Participation

Approximately 30 participants will be accommodated in each meeting, and three hours will be allotted for each meeting. Members of the general public may observe, but not participate in, the meetings as space permits. The morning and afternoon meetings will cover identical information and participants may attend only one session to allow greater stakeholder participation. OSHA staff will be present to take part in the discussions. Eastern Research Group (ERG), Inc., (110 Hartwell Avenue, Lexington, MA 02421) will manage logistics for the meetings, provide a facilitator, and compile notes summarizing the discussion; these notes will not identify individual speakers. ERG also will make an audio recording of each session to ensure that the summary notes are accurate; these recordings will not be transcribed. The summary notes will be posted on the docket for the Infectious Diseases Request for Information, Docket ID: OSHA-2010-0003, available at the Web site http://www.regulations.gov.

To participate in one of the July 29, 2011 stakeholder meetings, or be a nonparticipating observer, you must submit a notice of intent electronically, by facsimile, or by hard copy. OSHA will confirm participants, as necessary, to ensure a fair representation of interests and to facilitate gathering diverse viewpoints. To receive a confirmation of your participation as soon as possible before the meeting, register by the date listed in the DATES section of this notice. However, registration will remain open until the meetings are full. Additional nonparticipating observers that do not register for the meetings will be accommodated as space permits. See the ADDRESSES section of this notice for the registration Web site, facsimile number, and address. To register electronically, follow the instructions provided on the Web site. To register by mail or facsimile, please indicate the following:

Name, address, phone, fax, and e-mail.

First and second preferences of meeting time.

Organization for which you work.

Organization you will represent (if different).

Stakeholder category: Government, industry, union, trade association, insurance, manufacturers, consultants, or other (if other, please specify).

Electronic copies of this Federal Register notice, as well as news releases and other relevant documents, are available on the OSHA Web page at: http://www.osha.gov.

Authority and Signature

This document was prepared under the direction of David Michaels, PhD, MPH, Assistant Secretary of Labor for Occupational Safety and Health, U.S. Department of Labor, 200 Constitution Avenue, NW., Washington, DC 20210. This action is taken pursuant to sections 4, 6, and 8, Public Law 91-596, 84 STAT. 1590 (29 U.S.C. 653, 655, 657), Secretary of Labor's Order No. 4-2010 (75 FR 55355 (Sept. 10, 2010)), and 29 CFR part 1911.

Signed at Washington, DC, on June 29, 2011.
David Michaels,
Assistant Secretary of Labor for Occupational Safety and Health.

[FR Doc. 2011-16742 Filed 7-1-11; 8:45 am]

BILLING CODE 4510-26-P